DEPARTMENT OF THE INTERIOR

Fish and Wildlife Service

[FWS-R8-ES-2017-N029; FXES11130800000-178-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before May 1, 2017.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-59573B

Applicant: Andrew Krause, Lebec, California

The applicant requests a permit renewal and amendment to take (harass by survey, capture, handle, and release) the Tipton kangaroo rat (Dipodomys nitratoides nitratoides) and giant kangaroo rat (Dipodomys ingens), in conjunction with survey activities throughout the range of the species in California for the purpose of enhancing the species' survival.

Permit No. TE-180579

Applicant: Dwayne Oberhoff, Los Osos, California

The applicant requests a permit renewal to take (harass by survey, capture, handle, and release) the Morro shoulderband snail (Banded dune) (Helminthoglypta walkeriana) in conjunction with survey activities in San Luis Obispo County, California, for the purpose of enhancing the species' survival.

Permit No. TE-090849

Applicant: David Wolff, Los Osos, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-72044A

Applicant: Carl Demetropoulos, Thousand Oaks, California

The applicant requests a permit renewal to take (harass by survey, capture, handle, and release) the unarmored threespine stickleback (Gasterosteus aculeatus williamsoni) in conjunction with survey activities throughout the range of the species in California, for the purpose of enhancing the species' survival.

Permit No. TE-179036

Applicant: Cullen Wilkerson, Richmond, California

The applicant requests a permit renewal to take (harass by survey, capture, handle, mark, and release) the San Francisco garter snake (Thamnophis sirtalis tetrataenia); and take (harass by survey, capture, handle, and release) the California tiger salamander ((central distinct population segment (DPS)) (Ambystoma californiense)) in conjunction with survey activities throughout the range of the species in California for the purpose of enhancing the species' survival.

Permit No. TE-058073

Applicant: Susan Christopher, Santa Margarita, California

The applicant requests a permit renewal to take (harass by survey, capture, handle, and release) the California tiger salamander (Santa Barbara County and Sonoma County Distinct Population Segment (DPS)) (Ambystoma californiense) in conjunction with survey activities throughout the range of the species in California for the purpose of enhancing the species' survival.

Permit No. TE-90000A

Applicant: Ryan Brown, Chico, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-79454A

Applicant: Santa Barbara Zoological Gardens, Santa Barbara, California

The applicant requests a permit renewal to take (receive, hold in captivity, handle, provide veterinary services, transport, and transfer) the California condor (Gymnogyps californianus) in conjunction with general husbandry activities at the Santa Barbara Zoo in Santa Barbara, California for the purpose of enhancing the species' survival.

Permit No. TE-17017C

Applicant: Shelley Sianta, Santa Cruz, California

The applicant requests a new permit to remove/reduce to possession from lands under Federal jurisdiction Clarkia franciscana (Presidio clarkia) in conjunction with research activities throughout the range of the species in California for the purpose of enhancing the species' survival.

Permit No. TE-17211C

Applicant: Zoological Society of San Diego, San Diego, California

The applicant requests a new permit to remove/reduce to possession from lands under Federal jurisdiction Fremontodendron mexicanum (Mexican flannelbush), Chloropyron maritimum subsp. maritimum (Cordylanthus maritimus subsp. maritimus) (salt marsh bird's-beak), and Ambrosia pumila (San Diego ambrosia) in conjunction with research activities throughout the range of the species in California for the purpose of enhancing the species' survival.

Permit No. TE-19843C

Applicant: Jennifer Sexton, Simi Valley, California

The applicant requests a new permit to take (harass by survey; locate and monitor nests; remove brown-headed cowbird (Molothrus ater) eggs and chicks from parasitized nests; and capture, measure, weigh, band, color-band, and release) the least Bell's vireo (Vireo bellii pusillus) and southwestern willow flycatcher (Empidonax traillii extimus) in conjunction with survey, population monitoring, and scientific research activities throughout the range of the species in California, Nevada, and Arizona for the purpose of enhancing the species' survival.

Permit No. TE-48210A

Applicant: Area West Environmental, Orangevale, California

The applicant requests a permit amendment to take (harass by survey, capture, handle, collect tissue samples, use remote camera traps, use directional fencing, and release) the California tiger salamander (Santa Barbara County and Sonoma County Distinct Population Segment (DPS)) (Ambystoma californiense) in conjunction with survey and research activities throughout the range of the species in California for the purpose of enhancing the species' survival.

Permit No. TE-40087B

Applicant: U.S. Forest Service, Sonora, California

The applicant requests a permit amendment to take (harass by performing radio tracking studies) the Sierra Nevada yellow-legged frog (Rana sierrae) in conjunction with research activities throughout the range of the species for the purpose of enhancing the species' survival.

Permit No. TE-092469

Applicant: Ingrid Eich, Irvine, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-39186A

Applicant: Carlos Alvarado, Sacramento, California

The applicant requests a permit renewal to take (harass by survey, capture, handle, and release) the California tiger salamander (Santa Barbara County and Sonoma County Distinct Population Segment (DPS)) (Ambystoma californiense) in conjunction with survey activities throughout the range of the species in California for the purpose of enhancing the species' survival.

Permit No. TE-19906C

Applicant: Ross Taylor, Mckinleyville, California

The applicant requests a new permit to take (harass by survey, capture, handle, and release) the tidewater goby (Eucyclogobius newberryi) in Humboldt County, California, in conjunction with survey activities for the purpose of enhancing the species' survival.

Permit No. TE-780566

Applicant: Ruben Ramirez, Oceanside, California

The applicant requests a permit renewal to take (harass by survey, capture, handle, and release) the Pacific pocket mouse (Perognathus longimembris pacificus) and San Bernardino Merriam's kangaroo rat (Dipodomys merriami parvus); take (harass by survey, capture, handle, swab, attach radio transmitters, and release) the arroyo toad (arroyo southwestern) (Anaxyrus californicus) in conjunction with survey and scientific research activities throughout the range of the species in California for the purpose of enhancing the species' survival.

Permit No. TE-205600

Applicant: Bonnie Peterson, Sacramento, California

The applicant requests a permit renewal to take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-76005A

Applicant: Tara Schoenwetter, Atascadero, California

The applicant requests a permit renewal to take (harass by survey, capture, handle, release, collect vouchers, collect branchiopod cysts, and process vernal pool soil samples) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) throughout the range of the species in California; and remove/reduce to possession Deinandra increscens subsp. villosa (Gaviota tarplant), Cirsium loncholepis (La Graciosa thistle), Layia carnosa (beach layia), Nasturtium gambelii (Rorippa g.) (Gambel's watercress), Arenaria paludicola (marsh sandwort), and Eriodictyon capitatum (Lompoc yerba santa) from Federal lands in Santa Barbara and San Diego County to include Vandenberg Air Force Base and Marine Corps Base Camp Pendleton, in conjunction with survey and research activities for the purpose of enhancing the species' survival.

Permit No. TE-110373

Applicant: Eric Kline, San Diego, California

The applicant requests a permit renewal take (survey by pursuit) the Quino checkerspot butterfly (Euphydryas editha quino) in conjunction with survey activities throughout the range of the species in California, for the purpose of enhancing the species' survival.

Permit No. TE-799569

Applicant: Renee Owens, El Cajon, California

The applicant requests a permit renewal take (survey by pursuit) the Quino checkerspot butterfly (Euphydryas editha quino) and take (locate and monitor nests) least Bell's vireo (Vireo bellii pusillus) in conjunction with survey activities throughout the range of the species in California, for the purpose of enhancing the species' survival.

Permit No. TE-777965

Applicant: LSA Associates, Irvine, California

The applicant requests a permit renewal and amendment to take (harass by survey, capture, handle, and release) the Fresno kangaroo rat (Dipodomys nitratoides exilis), Tipton kangaroo rat (Dipodomys nitratoides nitratoides), giant kangaroo rat (Dipodomys ingens), San Bernardino Merriam's kangaroo rat (Dipodomys merriami parvus), Stephens' kangaroo rat (Dipodomys stephensi), and Pacific pocket mouse (Perognathus longimembris pacificus); take (harass by survey, capture, handle, release, collect vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (survey by pursuit) the Delhi Sands flower-loving fly (Rhaphiomidas terminatus abdominalis) and Quino checkerspot butterfly (Euphydryas editha quino); take (harass by survey and locate and monitor nests) the southwestern willow flycatcher (Empidonax traillii extimus) and California least tern (Sternula antillarum browni) (Sterna a. browni); and take (locate and monitor nests) the least Bell's vireo (Vireo bellii pusillus) in conjunction with survey and population monitoring activities throughout the range of the species in California for the purpose of enhancing the species' survival.

Permit No. TE-838743

Applicant: David Faulkner, Rancho Dominguez, California

The applicant requests a permit renewal to take (survey by pursuit) the Quino checkerspot butterfly (Euphydryas editha quino), Delhi Sands flower-loving fly (Rhaphiomidas terminatus abdominalis), and Laguna Mountains skipper (Pyrgus ruralis lagunae) in conjunction with survey activities throughout the range of the species for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2017-06320 Filed 3-30-17; 8:45 am]

BILLING CODE 4333-15-P